ENVIRONMENTAL PROTECTION AGENCY

[EPA-HQ-OPPT-2003-0004; FRL-11939-01-OCSPP]

Access to Confidential Business Information by General Dynamics Information Technology (GDIT)

AGENCY: Environmental Protection Agency (EPA).

ACTION: Notice.

SUMMARY: EPA has authorized its contractor General Dynamics Information Technology (GDIT) of Falls Church, VA, to access information which has been submitted to EPA under all sections of the Toxic Substances Control Act (TSCA). Some of the information may be claimed or determined to be Confidential Business Information (CBI).

DATES: Access to the confidential data will occur no sooner than May 13, 2024.

FOR FURTHER INFORMATION CONTACT:

For technical information contact: Colby Lintner or Adam Schwoerer, Program Management and Operations Division (7407M), Office of Pollution Prevention and Toxics, Environmental Protection Agency, 1200 Pennsylvania Ave. NW, Washington, DC 20460-0001; telephone number: (202) 564-8182; email address: lintner.colby@epa.gov or (202) 564-4767; schwoerer.adam@epa.gov or (202) 564-4767.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at https://www.regulations.gov or at the Office of Pollution Prevention and Toxics Docket (OPPT Docket), Environmental Protection Agency Docket Center (EPA/DC), West William Jefferson Clinton Bldg., Rm. 3334, 1301 Constitution Ave., NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at https://www.epa.gov/dockets.

II. What action is the Agency taking?

Under contract number 47QTCK18D0003, task order number 47QFCA22F0018, contractor GDIT of 3150 Fairview Park Drive, Falls Church, VA 22042 will assist the Office of Pollution Prevention and Toxics (OPPT) by hosting the servers and managing the infrastructure where TSCA CBI resides.

In accordance with 40 CFR 2.306(j), EPA has determined that under EPA contract number 47QTCK18D0003, task order number 47QFCA22F0018, GDIT will require access to CBI submitted under all sections of TSCA. EPA has determined that GDIT will need access to TSCA CBI submitted to EPA under all Sections of TSCA to perform successfully the duties specified under the contract. GDIT's personnel will be given access to information claimed or determined to be CBI information submitted to EPA under all sections of TSCA.

EPA is issuing this notice to inform all submitters of information under all sections of TSCA that EPA will provide GDIT access to these CBI materials on a need-to-know basis only. All access to TSCA CBI under this contract will take place at the National Computer Center in RTP, NC and telework locations of EPA and GDIT staff in accordance with EPA's TSCA CBI Protection Manual and the Rules of Behavior for Virtual Desktop Access to OPPT Materials, including TSCA CBI.

Access to TSCA data, including CBI, will continue until April 24, 2029. If the contract is extended, this access will also continue for the duration of the extended contract without further notice.

GDIT personnel will be required to sign nondisclosure agreements and will be briefed on specific security procedures for TSCA CBI.

Authority: 15 U.S.C. 2601 et seq.

Dated: April 30, 2024.
Pamela Myrick,
Director, Project Management and Operations Division, Office of Pollution Prevention and Toxics.

[FR Doc. 2024-09738 Filed 5-3-24; 8:45 am]

BILLING CODE 6560-50-P